DEPARTMENT OF HOMELAND SECURITY

Federal Emergency Management Agency

[Docket ID FEMA-2008-0010]

Board of Visitors for the National Fire Academy Teleconference

AGENCY: Federal Emergency Management Agency, DHS.

ACTION: Committee Management; Notice of Open Federal Advisory Committee Teleconference.

SUMMARY: The Board of Visitors for the National Fire Academy (Board) will meet via teleconference on Wednesday, May 15, 2013. The meeting will be open to the public.

DATE: The Board of Visitors for the National Fire Academy will meet on Wednesday, May 15, 2013, from 1:30 to 4:00 p.m. Eastern Daylight Time. Please note that the meeting may close early if the Board has completed its business.

ADDRESSES: Members of the public who wish to participate in the teleconference should contact Cindy Wivell as listed below in the FOR FURTHER INFORMATION CONTACT section by close of business May 8, 2013, to obtain the call-in number and access code. For information on services for individuals with disabilities or to request special assistance, contact Cindy Wivell as soon as possible.

To facilitate public participation, we are inviting public comment on the issues to be considered by the Board as listed below in the SUPPLEMENTARY INFORMATION section. Comments must be submitted in writing no later than May 8, 2013, and must be identified by docket ID FEMA-2008-0010 and may be submitted by one of the following methods:

• Federal eRulemaking Portal: http://www.regulations.gov. Follow the instructions for submitting comments.

• Mail/Hand Delivery: Cindy Wivell, 16825 South Seton Avenue, Emmitsburg, Maryland 21727.

Instructions: All submissions received must include the words “Department of Homeland Security” and the docket ID for this action. Comments received will be posted without alteration at http://www.regulations.gov, including any personal information provided.

Docket: For access to the docket to read background documents or comments received by the National Fire Academy Board of Visitors, go to http://www.regulations.gov. The documents will be posted on http://www.regulations.gov as soon as they are available.

There will be a 6-minute comment period after each agenda item; each speaker will be given no more than 2 minutes to speak. Please note that the public comment period may end before the time indicated, following the last call for comments. Contact Cindy Wivell to register as a speaker.

FOR FURTHER INFORMATION CONTACT:

Alternate Designated Federal Officer: Denis G. Onieal, telephone (301) 447-1117.

Logistical Information: Cindy Wivell, telephone (301) 447-1157, fax (301) 447-1834, and email Cindy.Wivell@fema.dhs.gov.

SUPPLEMENTARY INFORMATION: Notice of this meeting is given under the Federal Advisory Committee Act, 5 U.S.C. App. (Pub. L. 92-463).

Purpose of the Board

The purpose of the Board is to review annually the programs of the National Fire Academy (Academy) and advise the Administrator of the Federal Emergency Management Agency (FEMA), through the United States Fire Administrator, of the operation of the Academy and any improvements therein that the Board deems appropriate. The Board makes interim advisories to the Administrator of FEMA, through the United States Fire Administrator, whenever there is an indicated urgency to do so in fulfilling its duties. In carrying out its responsibilities, the Board examines Academy programs to determine whether these programs further the basic missions which are approved by the Administrator of FEMA, examines the physical plant of the Academy to determine the adequacy of the Academy's facilities, and examines the funding levels for Academy programs. The Board submits an annual report through the United States Fire Administrator to the Administrator of FEMA, in writing. The report provides detailed comments and recommendations regarding the operation of the Academy.

Agenda

The Board will review and approve the minutes of the December 5, 2012, teleconference meeting. The Board will discuss deferred maintenance and capital improvements on the National Emergency Training Center (NETC) campus, to include FY 2013 Budget Planning. The Board will receive a status report on U.S. Fire Administration data, research and response support initiatives. The Board will review and give feedback on Academy program activities including Executive Fire Officer Program (EFOP) prerequisites/accreditation update, FY 2013 curriculum developments update, EFOP Symposium, transition to electronic student manuals, and follow up to state training system/semi-annual course call.

The Board will discuss the Fire and Emergency Services Higher Education (FESHE)/Professional Development Subcommittee activities, including the FESHE committee's realignment, National Professional Development Symposium, and FESHE Recognition Update.

The Board will discuss dates and agenda items for upcoming meetings and the logistics for completing the 2012 BOV NFA annual report.

The public will have an opportunity to comment on these issues prior to deliberation and final action by the Board. After deliberation, the Board will recommend actions to the Superintendent of the National Fire Academy and the Administrator of FEMA.

Dated: April 25, 2013.
Denis G. Onieal,
Superintendent, National Fire Academy, United States Fire Administration, Federal Emergency Management Agency.

[FR Doc. 2013-10131 Filed 4-29-13; 8:45 am]

BILLING CODE 9111-45-P